SURFACE TRANSPORTATION BOARD

[Docket No. AB 6 (Sub-No. 467X)]

BNSF Railway Company—Discontinuance of Trackage Rights Exemption—in Big Stone, Swift, Chippewa, Yellow Medicine, and Renville Counties, Minn.

On August 4, 2016, BNSF Railway Company (BNSF) filed with the Surface Transportation Board (Board) a petition under 49 U.S.C. 10502 for exemption from the provisions of 49 U.S.C. 10903 to discontinue trackage rights over a 106.7-mile line of railroad (the Line) owned by Twin Cities & Western Railroad Company (TC&W), between milepost 600.7 at Ortonville and milepost 494.0 at Buffalo Lake in Big Stone, Swift, Chippewa, Yellow Medicine, and Renville Counties, Minn.¹ The Line traverses U.S. Postal Service Zip Codes 57216, 56276, 56278, 56208, 56227, 56262, 56265, 56260, 56241, 56285, 56284, 56230, 56277, 56295, 55310, 55342, and 55314.

¹ BNSF's predecessor was granted authority to acquire the trackage rights as part of the transaction in Burlington Northern Railroad—Trackage Rights Exemption—between Ortonville & Buffalo Lake, Minn, FD 30191 (ICC served June 23, 1983). According to BNSF, its trackage rights agreement expired in 2008 and it has not performed any trackage rights operations over the Line since that time. BNSF also states that TC&W has continued to provide rail service over the Line since 2008.

To BNSF's knowledge, the Line does not contain any federally granted rights-of-way. Any documentation in BNSF's possession will be made available promptly to those requesting it.

The interest of railroad employees will be protected by the conditions set forth in Oregon Short Line Railroad—Abandonment Portion Goshen Branch Between Firth & Ammon, in Bingham & Bonneville Counties, Idaho, 360 I.C.C. 91 (1979).

By issuance of this notice, the Board is instituting an exemption proceeding pursuant to 49 U.S.C. 10502(b). A final decision will be issued by November 22, 2016.

Because this is a discontinuance proceeding and not an abandonment, trail use/rail banking and public use conditions are not appropriate. This action is categorically excluded from environmental review under 49 CFR 1105.6(c).

Any offer of financial assistance (OFA) under 49 CFR 1152.27(b)(2) to subsidize continued rail service will be due no later than 10 days after service of a decision granting the petition for exemption. Each OFA must be accompanied by the filing fee, which is currently set at $1,600. See 49 CFR 1002.2(f)(25).

All filings in response to this notice must refer to Docket No. AB 6 (Sub-No. 467X) and must be sent to: (1) Surface Transportation Board, 395 E Street SW., Washington, DC 20423-0001; and (2) Karl Morell, 655 Fifteenth Street NW., Suite 225, Washington, DC 20005. Replies to the petition are due on or before September 13, 2016.

Persons seeking further information concerning discontinuance procedures may contact the Board's Office of Public Assistance, Governmental Affairs, and Compliance at (202) 245-0238 or refer to the full abandonment and discontinuance regulations at 49 CFR pt. 1152. Questions concerning environmental issues may be directed to the Board's Office of Environmental Analysis at (202) 245-0305. [Assistance for the hearing impaired is available through the Federal Information Relay Service (FIRS) at 1-800-877-8339.]

Board decisions and notices are available on our Web site at WWW.STB.DOT.GOV.

Decided: August 18, 2016.
By the Board, Rachel D. Campbell, Director, Office of Proceedings.
Kenyatta Clay,
Clearance Clerk.

[FR Doc. 2016-20271 Filed 8-23-16; 8:45 am]

BILLING CODE 4915-01-P